DEPARTMENT OF THE INTERIOR

National Park Service

Notice of Availability for the Draft Elk Management Plan and Environmental Impact Statement for Theodore Roosevelt National Park, ND

SUMMARY: Pursuant to Section 102(2)(C) of the National Environmental Policy Act of 1969 (42 U.S.C. 4332(2)(C)), the National Park Service (NPS) announces the availability of a draft Elk Management Plan (Plan) and Environmental Impact Statement (EIS) for Theodore Roosevelt National Park, North Dakota (Park).

DATES: The draft EIS will remain available for public review for 90 days following the publishing of the notice of availability in the Federal Register by the U.S. Environmental Protection Agency. Public meetings will be held during the 90-day review period, but the specific dates and locations will be announced in local and regional media sources of record and on the Park's Web site.

You may submit your comments by any one of several methods. You may comment via the Internet through the NPS Planning, Environment, and Public Comment Web site (http://parkplanning.nps.gov/thro) and simply click on the link to the Plan. You may mail comments to Superintendent Valerie Naylor at the address provided below. You may send comments to the Superintendent by facsimile at 701-623-4840. Finally, you may hand-deliver comments to the Park headquarters.

ADDRESSES: Copies of the draft EIS are available from the Superintendent, Theodore Roosevelt National Park, Box 7, Medora, North Dakota 58645-0007.

SUPPLEMENTARY INFORMATION: The purpose of this EIS is to develop and implement an elk management strategy compatible with the long-term protection and preservation of park resources. This EIS is needed to address the rapid increase of the Park elk population from the 47 reintroduced to the South Unit of the Park in 1985, to the approximately 900 that occur there today. Larger populations of elk could, over the long-term, negatively affect plant communities and other resources as a result of overgrazing. Large elk populations could also negatively affect other herbivores present in the South Unit by competing for forage. Other considerations include land use and users outside the Park, including livestock grazing, hunting, and agriculture; visitors to the Park; and the ability of the Park to effectively manage resources.

The alternatives under consideration include a required “no-action” alternative plus five action alternatives. An alternative that addresses herd maintenance only is included as one of the action alternatives. These alternatives were developed by an interdisciplinary planning team and through feedback from the public, other Agencies, and the scientific community during the planning process.

• Under alternative A (no action), existing management practices would be followed and no new management actions would be implemented beyond those available when the elk management planning process started. This would be limited to vegetation monitoring in elk use areas of the South Unit, as well as monitoring of the elk population.

• Under alternative B, direct reduction with firearms would be used to reduce and maintain elk numbers consistent with the protection of the lightly-grazed system in the South Unit.

• Under alternative C, the elk herd would be reduced and maintained using roundups and euthanasia at either offsite locations or the Park's handling facility.

• Under alternative D, the NPS would seek to reduce and maintain the elk population using translocation (roundup and relocation of animals to willing recipients outside the Park).

• Under alternative E, the NPS would look to increase hunting opportunities outside the park, coordinated with State actions to reduce and maintain the elk population in the Park.

• Under alternative F (maintenance only), the elk herd would initially be reduced using one of the other action alternatives, and then maintained by treating female elk with chemical fertility control agents to maintain the target elk population size. At this time, there are no fertility control agents that meet NPS criteria for use. However, ongoing research in other NPS units has indicated that use of such an agent at Theodore Roosevelt National Park could be feasible during the life of this plan.

FOR FURTHER INFORMATION CONTACT: Contact Superintendent Naylor at the address above or by telephone at 701-623-4466.

Before including your address, telephone number, electronic mail address, or other personal identifying information in your comments, you should be aware that your entire comment (including your personal identifying information) may be made publicly available at any time.

While you can ask us in your comments to withhold your personal identifying information from public review, we cannot guarantee that we will be able to do so.

Dated: December 4, 2008.
Ernest Quintana,
Regional Director, Midwest Region.

[FR Doc. E8-29593 Filed 12-12-08; 8:45 am]

BILLING CODE 4310-70-P